DEPARTMENT OF HOMELAND SECURITY

Agency Information Collection Activities: Safety Act Collection of Qualitative Feedback

AGENCY: S&T, DHS.

ACTION: 30-Day notice and request for comments; Science and Technology Collection of Qualitative Feedback, DHS-2023-0030.

SUMMARY: The Department of Homeland Security Science and Technology Directorate (S&T), DHS will submit the following information collection request (ICR) to the Office of Management and Budget (OMB) for review and clearance in accordance with the Paperwork Reduction Act of 1995. DHS previously published this information collection request (ICR) in the Federal Register on September 14, 2023, for a 60-day public comment period. Two comments were received by DHS. The purpose of this notice is to allow additional 30-days for public comments.

DATES: Comments are encouraged and will be accepted until June 12, 2024. This process is conducted in accordance with 5 CFR 1320.10.

ADDRESSES: Written comments and recommendations for the proposed information collection should be sent within 30 days of publication of this notice to www.reginfo.gov/public/do/PRAMain. Find this particular information collection by selecting “Currently under 30-day Review—Open for Public Comments” or by using the search function.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

FOR FURTHER INFORMATION CONTACT: If additional information is required contact: S&T/OIC/Safety Act, Project Manager, Luz Irazabal, Email Address, luz.irazabal@hq.dhs.gov, Phone Number: 202-913-4926.

SUPPLEMENTARY INFORMATION: This notice relies on the authority of the Paperwork Reduction Act of 1995; 44 U.S.C. 3501 et seq., chapter 35, as amended. An ICR is an application to OIRA seeking the approval, extension, or renewal of a S&T collection of information (Collection). The ICR contains information describing the Collection's purpose, the Collection's likely burden on the affected public, an explanation of the necessity of the Collection, and other important information describing the Collection. There is one ICR for each Collection.

S&T invites comments on whether this ICR should be granted based on the Collection being necessary for the proper performance of Departmental functions. In particular, S&T would appreciate comments addressing: (1) The practical utility of the Collection; (2) the accuracy of the estimated burden of the Collection; (3) ways to enhance the quality, utility, and clarity of information subject to the Collection; and (4) ways to minimize the burden of the Collection on respondents, including the use of automated collection techniques or other forms of information technology. Burden means the total time, effort, or financial resources expended by persons to generate, maintain, retain, disclose or provide information to or for a Federal agency.

In response to your comments, we may revise this ICR. We will consider all comments and material received during the comment period.

We encourage you to respond to this request by submitting comments and related materials. Comments must contain the OMB Control Number of the ICR and the docket number of this request, DHS-2023-0031 SAFETY Act, and must be received by June 2, 2024.

Analysis

Agency: DHS/Science and Technology.

Title: Safety Act.

OMB Number: DHS-2023-0030.

Frequency: Once.

Affected Public: Individuals.

Number of Respondents: An estimated 330 respondents will take the survey.

Estimated Time per Respondent: 56 Hours.

Total Burden Hours: 18,500 Hours.

Total Burden Cost (capital/startup): There is no cost to participants other than their time.

Total Burden Cost (operating/maintaining): There is no cost to participants other than their time.

Dated: May 8, 2024.
Jon J Robinson,
Deputy Chief Information Officer, Science and Technology Directorate, Department of Homeland Security.

[FR Doc. 2024-10388 Filed 5-10-24; 8:45 am]

BILLING CODE 9110-9F-P